DEPARTMENT OF COMMERCE

International Trade Administration

[A-822-804; A-822-806]

Steel Concrete Reinforcing Bars From Belarus and Carbon and Alloy Steel Wire Rod From Belarus: Initiation of Antidumping Duty Changed Circumstances Reviews

AGENCY: Enforcement and Compliance, International Trade Administration, Department of Commerce.

SUMMARY: The Department of Commerce (Commerce) is initiating changed circumstances reviews (CCRs) to examine whether Belarus is still a non-market economy (NME) country for purposes of the antidumping duty (AD) law.

DATES: Applicable February 6, 2020.

FOR FURTHER INFORMATION CONTACT: Christopher Loopesko, Office of Policy, Enforcement and Compliance, International Trade Administration, U.S. Department of Commerce, 1401 Constitution Avenue NW, Washington, DC 20230; telephone: (202) 482-0969.

SUPPLEMENTARY INFORMATION:

Background

Citing changes that have occurred in Belarus in recent years, on December 16, 2019, Commerce received letters from the Government of the Republic of Belarus (GOB) requesting that Commerce conduct a review of Belarus' status as an NME country within the context of CCRs of the AD orders on steel concrete reinforcing bars and alloy steel wire rod. In the letters, the GOB submitted information supporting its request for market economy (ME) status.

We find that the GOB has provided sufficient evidence for Commerce to initiate these CCRs. Therefore, in response to this request, Commerce is initiating these CCRs in order to examine whether Belarus is still an NME country for purposes of the AD law, pursuant to sections 751(b) and 771(18)(C)(ii) of the Tariff Act of 1930, as amended (the Act). Commerce has treated Belarus as an NME country in all past AD investigations and administrative reviews.¹ A designation as an NME remains in effect until it is revoked by Commerce.²

¹ See, e.g., Certain Carbon and Alloy Steel Wire Rod from Belarus, the Russian Federation, and the United Arab Emirates: Affirmative Final Determinations of Sales at Less Than Fair Value and Partial Affirmative Finding of Critical Circumstances, 82 FR 56214 (November 28, 2017); and Notice of Final Determination of Sales at Less Than Fair Value: Steel Concrete Reinforcing Bars from Belarus, 66 FR 33528 (June 22, 2001).

² See section 771(18)(C)(i) of the Act.

Opportunity for Public Comment and Information

As part of this inquiry to review Belarus' NME status, Commerce is interested in receiving public comment and information with respect to Belarus on the following factors enumerated by section 771(18)(B) of the Act, which Commerce must take into account in making an ME/NME determination:

(i) The extent to which the currency of the foreign country is convertible into the currency of other countries;

(ii) the extent to which wage rates in the foreign country are determined by free bargaining between labor and management;

(iii) the extent to which joint ventures or other investments by firms of other foreign countries are permitted in the foreign country;

(iv) the extent of government ownership or control of the means of production;

(v) the extent of government control over allocation of resources and over price and output decisions of enterprises; and

(vi) such other factors as the administering authority considers appropriate.

The deadline for the submission of comments is not later than 30 days after the date of publication of this notice. Rebuttal comments, limited to issues raised in parties' affirmative comments, may be filed not later than 14 days after the date for filing affirmative comments. All submissions to Commerce must be filed electronically via Enforcement and Compliance's Antidumping Duty and Countervailing Duty Centralized Electronic Service System (ACCESS).³ An electronically filed document must be received successfully in its entirety in ACCESS by 5:00 p.m. Eastern Time on the due date set forth in this notice. Documents exempted from the electronic submission requirements must be filed manually (i.e., in paper form) with Enforcement and Compliance's APO/Dockets Unit, Room 18022, U.S. Department of Commerce, 1401 Constitution Avenue NW, Washington, DC 20230, and stamped with the date and time of receipt by the applicable deadlines.

³ See Antidumping and Countervailing Duty Proceedings: Electronic Filing Procedures; Administrative Protective Order Procedures, 76 FR 39263 (July 6, 2011); see also Enforcement and Compliance; Change of Electronic Filing System Name, 79 FR 69046 (November 20, 2014) for details of Commerce's electronic filing requirements, effective August 5, 2011. Information on help using ACCESS can be found at https://access.trade.gov/help.aspx and a handbook can be found at https://access.trade.gov/help/ACCESS_User_Guide.pdf.

All such comments must also be filed on the records of both of the concurrent CCRs. ACCESS is available to registered users at http://access.trade.gov, and to all parties in the Central Records Unit, room B8024 of the main Commerce building.

After reviewing all comments, Commerce will determine whether a public hearing in these CCRs is warranted, if one is requested in the comments filed by an interested party, as defined by section 771(9) of the Act, or if Commerce otherwise determines that one is warranted. If Commerce determines that a hearing is warranted, it will announce a time for that hearing to be held at the U.S. Department of Commerce, 1401 Constitution Avenue NW, Washington, DC 20230, in a room to be determined.

Unless extended, consistent with 19 CFR 351.216(e), we intend to issue the final results of these CCRs no later than 270 days after the date on which these reviews were initiated or within 45 days of that date if all parties agree to the outcome of the reviews.

Notification to Interested Parties

This determination is issued and published in accordance with sections 751(b) and 771(18)(C)(ii) of the Act.

Dated: January 30, 2020.
Jeffrey I. Kessler,
Assistant Secretary for Enforcement and Compliance.

[FR Doc. 2020-02361 Filed 2-5-20; 8:45 am]

BILLING CODE 3510-DS-P